ENVIRONMENTAL PROTECTION AGENCY

40 CFR Part 52

[EPA-R05-OAR-2024-0137; EPA-R05-OAR-2025-0235; FRL-13185-01-R5]

Air Plan Approval; Michigan; 2015 Ozone Moderate Reasonably Available Control Technology

AGENCY: Environmental Protection Agency (EPA).

ACTION: Proposed rule.

SUMMARY: The Environmental Protection Agency (EPA) is proposing to approve revisions and additions to Michigan Air Pollution Control Rules (MAPCR) Parts 6 and 8 for inclusion in the Michigan State Implementation Plan (SIP). Michigan submitted these SIP revisions to meet the Moderate Volatile Organic Compound (VOC) and Nitrogen Oxide (NOX) Reasonably Available Control Technology (RACT) requirements for the Western Michigan nonattainment areas (Berrien, Western portion of Allegan, and Western portion of Muskegon counties) under the 2015 ozone National Ambient Air Quality Standard (NAAQS or standard). The EPA is also proposing to approve MAPCR Rules that limit VOC emissions from consumer products and architectural and industrial maintenance coatings, as SIP strengthening measures for the Western Michigan nonattainment areas under the 2015 ozone standard. The Michigan Department of Environment, Great Lakes, and Energy (Michigan or EGLE) submitted the VOC SIP revisions on March 7, 2024, supplementing the submittal on May 2, 2024, and submitted the NOX SIP revisions on May 5, 2025, supplementing the submittal on August 6, 2025.

DATES: Comments must be received on or before March 30, 2026.

ADDRESSES: Submit your comments, identified by Docket ID No. EPA-R05-OAR-2024-0137 (for VOC RACT) or EPA-R05-OAR-2025-0235 (for NOx RACT) at https://www.regulations.gov, or via email to arra.sarah@epa.gov. For comments submitted at Regulations.gov, follow the online instructions for submitting comments. Once submitted, comments cannot be edited or removed from the docket. The EPA may publish any comment received to its public docket. Do not submit to the EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Katie Caskey, Air and Radiation Division (AR-18J), Environmental Protection Agency, Region 5, 77 West Jackson Boulevard, Chicago, Illinois 60604, (312) 353-3490, caskey.kathleen@epa.gov. The EPA Region 5 office is open from 8:30 a.m. to 4:30 p.m., Monday through Friday, excluding Federal holidays.

SUPPLEMENTARY INFORMATION: Throughout this document whenever “we,” “us,” or “our” is used, we mean the EPA.

I. What is the EPA proposing?

Michigan's Part 6 rules regulate existing sources of VOC emissions, while Michigan's Part 8 rules regulate existing sources of NOX emissions. The EPA is proposing to approve various revisions and additions to MAPCR Parts 6 and 8, except for MAPCR Rule 336.1601(a), which Michigan requested that the EPA not incorporate into the SIP. The EPA is also proposing to remove the current SIP approved version of R 336.1632, except for subrule (15), and is proposing to approve Michigan's updated version of R 336.1632 (effective April 18, 2023), except for subrule (9), which Michigan requested the EPA not incorporate into the SIP. Michigan submitted these SIP revisions to meet the Moderate VOC and NOX RACT requirements for the Western Michigan nonattainment areas under the 2015 ozone standard.

The EPA is proposing to approve MAPCR Rules 336.1660 and 336.1662, which limit VOC emissions from consumer products and architectural and industrial maintenance coatings, as SIP strengthening measures for the areas. Although Michigan requested SIP revisions to Rules 336.1841(8), 336.1842(10), and 336.1844(9), the EPA is not proposing action on these revisions in this action.

Finally, Michigan did not request EPA action on R. 336.1801, 336.1802, 336.1803, 336.1810, and 336.1818, which are responsive to different CAA requirements and will be considered in a separate rulemaking.

EGLE submitted the VOC SIP revisions on March 7, 2024, supplementing them on May 2, 2024, and submitted the NOX SIP revisions on May 5, 2025, supplementing them on August 6, 2025.

II. What is the background for this action?

Under Clean Air Act (CAA) section 109, the EPA has established primary and secondary NAAQS for certain air pollutants (referred to as “criteria pollutants”) and conducts periodic reviews of the NAAQS to determine whether they should be revised or whether new NAAQS should be established. The primary NAAQS represent ambient air quality standards which the EPA has determined are necessary to protect the public health with an adequate margin of safety. The secondary NAAQS represent ambient air quality standards which the EPA has determined are necessary to protect the public welfare from any known or anticipated adverse effects associated with the presence of such air pollutant in the ambient air. One such criteria pollutant is ground-level ozone.

Ozone forms from complex chemical reactions in ambient air between NOX and VOCs. Cars, trucks, buses, engines, industries, power plants, and products such as solvents and paints are among the major manmade sources of ozone-forming emissions. Exposure to ozone can harm the respiratory system, aggravate asthma and other lung diseases, and is linked to premature death from respiratory causes.

On October 26, 2015, the EPA promulgated a new 8-hour primary ozone NAAQS of 70 parts per billion (ppb) at 40 CFR 50.19, which is met at an ambient air quality monitoring site when the 3-year average of the annual fourth-highest daily maximum 8-hour average ozone concentration is less than or equal to 0.070 ppm, as determined in accordance with appendix U of 40 CFR part 50.¹ Upon promulgation of a new or revised NAAQS, the EPA is required to designate all areas of the country as either “attainment” (meets the standard), “nonattainment” (does not meet the standard), or “unclassifiable” (any area that cannot be classified on the basis of available information).²

¹ 80 FR 65292 (October 26, 2015).

² CAA section 107(d)(1)(A).

Under the cooperative federalism framework of CAA section 110, States and the EPA each play a unique role in ensuring attainment and maintenance of the NAAQS. States are primarily responsible for developing plans for attaining and maintaining the NAAQS in areas within their jurisdiction, based on CAA requirements, planning rules, and guidance promulgated by the EPA. These planning requirements include (but are not limited to) provisions for implementing emissions controls, tracking progress toward attainment and monitoring and reporting air quality data, with the overarching goal of attaining and maintaining the NAAQS as expeditiously as practical, but no later than the CAA's maximum attainment date.

Effective on August 3, 2018, the EPA initially designated 51 areas throughout the country as nonattainment for the 2015 ozone NAAQS, including the Western Michigan nonattainment areas.³ In a separate action, the EPA assigned classification thresholds based on the severity of an area's ozone levels, determined by the area's monitored design value (DV).⁴ As a result of that action, the Western Michigan nonattainment areas were initially classified as Marginal. Also in that action, the EPA established the attainment dates for Marginal, Moderate, Serious, Severe, and Extreme nonattainment areas as 3 years, 6 years, 9 years, 15 years, and 20 years, respectively, from the effective date of the final designations.⁵ Therefore, the attainment dates for each nonattainment area classification for the 2015 ozone NAAQS were/are as follows: August 3, 2021, for Marginal areas, August 3, 2024, for Moderate areas, August 3, 2027, for Serious areas, August 3, 2033, for Severe areas, and August 3, 2038, for Extreme areas.

³ 83 FR 25776 (June 4, 2018).

⁴ 83 FR 10376 (March 9, 2018).

⁵ Id. 10380.

The EPA also promulgated a rulemaking clarifying the CAA's ozone nonattainment area implementation requirements for the 2015 ozone NAAQS (herein referred to as the “2015 Ozone SIP Requirements Rule”).⁶ That implementation rulemaking articulated the CAA's substantive requirements for ozone nonattainment areas for each classification level and established deadlines for submission of plan revisions to address those requirements.⁷

⁶ 83 FR 62998 (December 6, 2018).

⁷ Id.; 40 CFR 51.1300-1319.

Effective November 7, 2022, the EPA determined that the Western Michigan nonattainment areas failed to attain by the Marginal area attainment date and the areas were reclassified by operation of law to Moderate.⁸ Effective January 16, 2025, the EPA determined that the Western Michigan nonattainment areas failed to attain by the Moderate area attainment date and the areas were reclassified to Serious by operation of law.⁹ Michigan's Serious RACT SIP was due on January 1, 2026, but this action addresses RACT for Moderate nonattainment only.¹⁰

⁸ 87 FR 60897 (October 7, 2022).

⁹ 89 FR 101901 (December 17, 2024).

¹⁰ 90 FR 5651 (January 17, 2025).

II. RACT Requirements for Ozone

RACT is an important strategy for reducing NOX and VOC emissions from major stationary sources and sources covered by a control techniques guideline (CTG) document. Since the 1970s, the EPA has defined RACT as the lowest emission limit that a particular source is capable of meeting by the application of the control technology that is reasonably available considering technological and economic feasibility.¹¹

¹¹ Guidance for Determining Acceptability of SIP Regulations in Non-Attainment Areas (December 9, 1976) and 44 FR 53762 (September 17, 1979).

Areas designated nonattainment for an ozone NAAQS are subject to the general nonattainment area planning requirements of CAA section 172. Section 172(c)(1) of the CAA provides that SIPs for nonattainment areas must include reasonably available control measures (RACM), including emissions reductions from existing sources through the adoption of RACT. Further, section 182(b)(2) of the CAA sets forth three specific RACT requirements for ozone nonattainment areas classified as Moderate or higher.

First, section 182(b)(2)(A) requires that States submit a revision to their SIP requiring implementation of RACT for each category of VOC sources in the nonattainment area covered by a CTG document issued by the EPA between November 15, 1990, and the date of attainment. Second, section 182(b)(2)(B) requires a SIP revision to implement RACT for all VOC sources in the nonattainment area covered by any CTG issued before November 15, 1990. Third, section 182(b)(2)(C) requires a SIP revision implementing RACT for any other major stationary source of VOCs located in the nonattainment area. This RACT requirement is extended to major stationary sources of NOX in section 182(f) of the CAA, which subjects major stationary sources of NOX to the same requirements that are applicable to major stationary sources of VOCs. These ozone RACT requirements are sometimes referred to collectively as VOC CTG RACT, non-CTG major source VOC RACT, and major source NOX RACT.

A “major source” is defined based on the source's potential to emit (PTE) of NOX, VOC, or both pollutants, and the applicable thresholds differ based on the classification of the nonattainment area in which the source is located.¹²

¹² See CAA sections 182(c)-(f) and 302(j).

The EPA has affirmed RACT requirements through implementation rules for each ozone NAAQS as well as through guidance. The EPA's 2015 Ozone SIP Requirements Rule outlined the requirements that States with ozone nonattainment areas need to address for the 2015 ozone NAAQS, which include RACT requirements.¹³

¹³ 40 CFR 51.1312.

The preamble to the 2015 ozone implementation rule, consistent with the EPA's prior guidance, says that when determining what is RACT for a particular source or category of sources, air agencies should consider all relevant information (including recent technical information and information received during the State's public comment period) that is available at the time they develop their RACT SIPs.¹⁴ The EPA informally refers to this assessment process as a “due diligence review” and considers it a necessary component of approvable RACT determinations.¹⁵

¹⁴ 83 FR at 63007.

¹⁵ See Ozone NAAQS Resource Document: Due Diligence Review Framework for Air Agencies Developing RACT SIP Revisions (Dec. 19, 2024).

Further, an air agency that has previously implemented RACT via the EPA-approved SIP revisions for a prior ozone NAAQS may conclude that new or revised RACT regulations are not necessary to meet RACT requirements for a revised ozone NAAQS. In such situations, an air agency may submit SIP revisions certifying that existing RACT regulations are adequate to meet applicable nonattainment area or Ozone Transport Region RACT requirements for a revised ozone NAAQS (these are referred to as “certification SIPs”). States should include an accompanying due diligence analysis in their SIP submittal showing why no new or revised RACT regulations are necessary. Put another way, the SIP submission should include analyses to explain why the previously approved RACT regulations continue to represent RACT for the revised NAAQS. Additionally, if there are no sources covered by a certain CTG within a nonattainment area, a State may submit a negative declaration stating so, in place of regulatory requirements to apply RACT for that category of sources.

This action addresses Michigan's Moderate VOC and NOX RACT SIP submittal for the 2015 ozone standard for the Western Michigan nonattainment areas. This action also addresses rules that reduce VOC emissions from the consumer products and architectural coatings categories.

III. What is the EPA's evaluation of Michigan's submittal?

A. Revisions to Existing VOC RACT CTG Regulations in MAPCR Part 6

The EPA previously determined that Michigan's Administrative Code, “Part 6. Emission Limitations and Prohibitions—Existing Sources of Volatile Organic Compound Emissions” met CTG and non-CTG VOC RACT requirements associated with past ozone NAAQS and approved them into the Michigan SIP. These Part 6 VOC regulations were originally developed and incorporated into Michigan's SIP under the previous 1-hour (1979) ozone standard.¹⁶ The Muskegon and Berrien nonattainment areas were redesignated to attainment under the 1997 ozone standard before RACT became due.¹⁷ Michigan was designated attainment/unclassifiable under the 2008 ozone standard, so the State was not required to implement RACT under this standard.¹⁸

¹⁶ 59 FR 46182 (September 7, 1994)

¹⁷ 72 FR 27425 (May 16, 2007)

¹⁸ 77 FR 30088 (May 21, 2012)

To meet the VOC RACT requirements for the 2015 ozone NAAQS, Michigan revised several existing VOC RACT rules in Part 6. These amendments address cases where certain CTGs have been revised or reissued since the State rules were last SIP-approved, and revise certain rules' applicability to include the current ozone nonattainment areas. The amended rules include:

• R 336.1606-R 336.1611

• R 336.1618

• R 336.1620-R 336.1625

• R 336.1627-R 336.1632

Michigan also adopted new VOC RACT rules in Part 6 for the Western Michigan nonattainment areas under the 2015 ozone standard. These new rules address CTGs the EPA issued since the Part 6 rules were last approved:

• R 336.1610a

• R 336.1620a

• R 336.1624a

• R 336.1633-R 336.1644

In addition, Michigan amended R 336.1601 and R 336.1602 to align with its new and revised CTG-based RACT rules. R 336.1601 establishes definitions for various words and phrases used throughout Part 6 as well as the definition for “existing source.” The EPA is proposing to approve R 336.1601, with the exception of subrule (a), which Michigan requested that the EPA not incorporate into the SIP. R 336.1602, discussed further below, establishes alternative procedures requiring State and EPA SIP approval, as well as requirements for non-CTG RACT analyses.

As noted above, R 336.1632 was revised to address CTGs the EPA issued since the rule was last approved. The EPA is proposing to remove the current SIP-approved version of R 336.1632 from the SIP, with the exception of subrule (15), and is proposing to approve Michigan's current version of R 336.1632, effective April 18, 2023, with the exception of subrule (9), which Michigan requested that the EPA not incorporate into the SIP.

Michigan and the EPA performed RACT due diligence analyses comparing the State's VOC RACT rules to relevant CTGs and RACT rules in other States. The EPA found Michigan's rules to be mostly consistent with similar VOC RACT rules adopted by other States and with the relevant CTGs. The EPA has not identified any new reasonably available control technologies, considering technological and economic feasibility for these sources. As a result of the EPA's due diligence analysis, the EPA is proposing to determine that these VOC RACT regulations are representative of RACT for the Western Michigan nonattainment areas for purposes of the 2015 ozone standard. See more about the due diligence process in the EPA's technical support document (TSD) ¹⁹ and in part G of section III of this preamble.

¹⁹ Available in the docket for this action.

B. Michigan's Demonstration for Coating Usage Exemptions in R 336.1610, R 336.1620, R 336.1621, and R 336.1624

Michigan adopted Rules R 336.1610a, R 336.1620a, R 336.1621a, and R 336.1624a as VOC rules covering CTG categories in nonattainment areas under the 2015 ozone standard.

• R 336.1610a: Surface coating of cans, coils, paper, fabrics, automobiles, and light-duty trucks

• R 336.1620a: Flat wood paneling coatings

• R 336.1621a: Miscellaneous metal and plastic parts coatings

• R 336.1624a: Flexible package printing

These rules meet RACT requirements and use the more stringent VOC coating-usage exemption level of 15 pounds per day (lbs/day).

Michigan previously adopted Rules R 336.1610, R 336.1620, R 336.1621, and R 336.1624, which also regulate VOC content in coatings and printing inks. These rules apply to areas not required to comply with rules R 336.1610a, R 336.1620a, R 336.1621a, and R 336.1624a. Michigan finalized Rule 610 in 1980 and Rules 620, 621, and 624 in 1981.

• R 336.1610: Automobile and light-duty truck assembly coatings; coatings for paper, vinyl, fabric, and certain metallic products

• R 336.1620: Flat wood paneling coatings

• R 336.1621: Miscellaneous metal coatings not covered by Rule 610

• R 336.1624: Certain printing operations

In 1993, Michigan revised these rules to meet the EPA's RACT “fix-up requirement” under CAA section 182(a)(2)(A), which standardized VOC control levels nationwide. The revisions reduced the exemption levels from 2,000 pounds per month (lbs/month) to 15 lbs/day (2.7 tons per year (tpy)). These lower exemptions created significant financial burdens for small coating operations that emitted minimal VOCs. In 1997, Michigan responded by restoring the pre-1993 exemption levels at the State level, which was typically 2,000 lbs/month (12 tpy). The State later made additional revisions to update adoption-by-reference materials and clarify rule language.

Michigan conducted a demonstration for Rules R 336.1610, R 336.1620, R 336.1621, and R 336.1624 to determine whether revising the SIP-approved 15 lbs/day exemption back to 2,000 lbs/month would increase VOC emissions. The analysis evaluated potential changes in emissions by comparing current reported emissions (under the 12 tpy exemption) with projected emissions under the 2.7 tpy exemption. It focused on units with combined emissions between 2.7 and 12 tpy, which are assumed not to be subject to the current SIP-approved rules.

Michigan's analysis shows that the higher exemption limits will not increase emissions. In fact, actual emissions under the higher exemption limit (12 tpy or 2,000 lbs/month) were lower than the potential emissions allowed under the stricter 15 lbs/day exemption limit.

Therefore, the EPA is proposing to approve Rules R 336.1610, R 336.1620, R 336.1621, and R 336.1624 into the Michigan SIP as satisfying CAA section 110(l) requirements, because the revisions will not interfere with attainment or reasonable further progress.

C. Negative Declarations

For the Western Michigan nonattainment areas, Michigan provided Negative Declarations for the following CTGs: “Manufacture of Pneumatic Rubber Tires,” “Large Petroleum Dry Cleaners,” “Manufacture of High-Density Polyethylene, Polypropylene, and Polystyrene Resins,” “Air Oxidation Processes in Synthetic Organic Chemical Manufacturing Industry,” “Reactor Processes and Distillation Operations in Synthetic Organic Chemical Manufacturing Industry,” “Shipbuilding and Ship Repair Operations,” “Large Appliance Coatings,” and “Oil and Natural Gas Industry.” Michigan reviewed facilities in the Western Michigan nonattainment areas for the 2015 ozone standard and determined that no sources are subject to any of these CTGs. To reach this conclusion, Michigan used its Michigan Air Emissions Reporting System (MAERS), Michigan Air Compliance Emissions System (MACES), district office outreach, and external stakeholder workgroup feedback. The EPA concurs with Michigan that there are no applicable sources for the RACT categories covered by these negative declarations.

D. Non-CTG Major Source VOC Categorical RACT

In Moderate ozone nonattainment areas, non-CTG VOC major sources, which are subject to RACT, are stationary sources with a PTE of 100 tpy or more of VOCs. Many major VOC sources located in the Western Michigan ozone nonattainment areas are subject to categorical RACT rules. Michigan's VOC RACT rules currently establish non-CTG RACT for two source categories. Michigan revised these rules, extending their geographic applicability to include the Western Michigan 2015 ozone nonattainment areas:

• R 336.1630: Emission of volatile organic compounds from existing paint manufacturing processes

• R 336.1631: Emission of volatile organic compounds from existing process equipment utilized in manufacture of polystyrene or other organic resins

Michigan's due diligence analysis, available in the docket, compares its non-CTG categorical RACT rules to similar rules adopted by other States. The EPA found Michigan's rules to be consistent with those comparisons and did not identify any new control technologies that are reasonably available considering technological and economic feasibility for these sources. As a result of Michigan's due diligence analysis, the EPA is proposing to determine that these non-CTG VOC RACT regulations are still representative of RACT for the Western Michigan nonattainment areas under the 2015 ozone standard. See more about the due diligence process in part G of section III of this preamble.

E. Non-CTG VOC and NOX Major Source-Specific RACT Determinations

MAPCR Rule 336.1602(4) requires non-CTG VOC major sources that are not regulated under other Michigan VOC RACT rules to submit RACT studies within 6 months of final promulgation of Michigan's rule or an alternative timeframe approved by Michigan. Similarly, MAPCR Rule 336.1846 requires NOX major sources that are not covered by other Michigan NOX RACT rules to submit RACT studies within one year of the effective date of Michigan's rule. Michigan will then submit the source-specific RACT plans with enforceable measures to the EPA for review and approval into the Michigan SIP. Since these procedural rules do not establish any control standards, they do not themselves establish RACT-level controls. However, all of the non-CTG VOC and NOX major sources in the Western Michigan nonattainment areas are covered by non-CTG categorical rules and none currently exist that would be subject to Rules 336.1602(4) or 336.1846. The EPA is proposing to approve Rules 336.1602(4) and 336.1846 into Michigan's SIP.

F. VOC SIP Strengthening: Consumer Products and AIM Rules, R 336.1660 (Amended), R 336.1662 (Added), R 336.1661 (Rescinded)

The EPA is proposing to approve Michigan's amended Rule 336.1660 and newly added Rule 336.1662 as SIP strengthening for the Western Michigan nonattainment areas under the 2015 ozone standard. Rule 336.1660 reduces VOC emissions from consumer products, while Rule 336.1662 limits VOC emissions from architectural and industrial maintenance coatings. Neither rule is based on CTGs. Rule 336.1661 is being rescinded, as its content has been incorporated into the updated R 336.1660.

G. RACT Due Diligence

Michigan developed a comparison table evaluating its VOC RACT rules against applicable CTGs and RACT regulations in other States. The EPA performed a due diligence analysis to evaluate Michigan's VOC and NOX RACT submittal and to supplement Michigan's comparison table for the Western Michigan nonattainment areas under the 2015 ozone standard. In the EPA's TSD (available in the docket), the EPA details the basis for concluding that Michigan's regulations fulfill RACT through comparison with RACT rules developed by other States, CTG guidance documents, and applicable Alternative Control Technology (ACT) documents. The EPA evaluated the relevant RACT rules in various States including Region 5 States (Illinois, Ohio, Indiana, and Wisconsin) and States in EPA Regions 1, 2, 6, 8, and 9 (Maine, Vermont, California, Colorado, Texas, Arizona, New Jersey, Connecticut, and New York). The EPA found Michigan's rules to be generally consistent with or more stringent than control measures in other States' regulations, CTGs, and ACT documents. The EPA has not identified any new control technologies that are reasonably available considering technological and economic feasibility for these sources. Based upon our findings, the EPA proposes to determine that Michigan's VOC and NOX rules represent RACT.

H. NOX RACT Rules

“Part 8. Emission Limitations and Prohibitions—Oxides of Nitrogen” has not been previously submitted or approved into Michigan's SIP. Michigan promulgated NOX RACT emission standards for various sizes of engines, boilers, combustion turbines, miscellaneous process-specific combustion sources, and Alternative NOX RACT, which are contained in MAPCR R 336.1840-R336.1845.

Michigan evaluated other States' recent RACT regulations and analyzed emissions and operational profiles of combustion units at major source facilities in Michigan to determine RACT requirements for these categories. These regulations establish NOX RACT requirements for combustion engines, boilers, combustion turbines, hot mix asphalt plants, process heaters, engine test cells, lime kilns, and glass manufacturing. They also outline the process and timeline for proposing alternative RACT for emission units that would otherwise be subject to the Part 8 NOX RACT requirements. The EPA is proposing to approve the following sections of MAPCR Part 8 as meeting the NOX RACT requirement for the Western Michigan nonattainment areas under the 2015 ozone standard into the Michigan SIP: R 336.1840, 336.1841(1)-(7), 336.1842(1)-336.1842(9), 336.1843, 336.1844(1)-336.1844(8), and R336.1845. In the EPA's due diligence analysis, the EPA compares Michigan's NOX RACT rules to other relevant State rules and ACTs. The EPA found Michigan's rules to be in some cases more stringent than other states' NOX RACT rules and consistent with the ACTs. The EPA has not identified any new control technologies that are reasonably available considering technological and economic feasibility for these sources. See the EPA's TSD and this preamble for more information on the EPA's due diligence analysis.

I. Consumer Products and AIM Rules, R 336.1660 (Amended), R 336.1662 (Added), R 336.1661 (Rescinded)

The Consumer Products and AIM Coatings Rules are not RACT rules. However, Michigan submitted these VOC SIP revisions as part of its attainment strategy for the Western Michigan nonattainment areas under the 2015 ozone standard. The EPA is proposing to approve Michigan's Rules R 336.1660 and R 336.1662, which establish VOC limits for consumer products and architectural and industrial maintenance coatings, as SIP-strengthening measures for the Western Michigan nonattainment areas under the 2015 ozone standard. Michigan is relying in part on the VOC emission reductions from these rules to meet the reasonable further progress requirements under CAA section 182(b)(1). Rule 336.1660 regulates VOC emissions reductions from consumer products, while Rule 336.1662 regulates VOC emissions reductions from architectural and industrial maintenance coatings. Neither rule is based on CTGs. Michigan is rescinding Rule 336.1661 because its content is now incorporated into the updated R 336.1660.

IV. What action is the EPA taking?

The EPA is proposing to approve various revisions and additions to MAPCR Parts 6 and 8 into the Michigan SIP as described in the Preamble above. The EPA is proposing to approve these revisions as meeting the Moderate VOC and NOX RACT requirements of CAA sections 182(b)(2) and NOX RACT requirements of 182(f) of the CAA, respectively, for the Western Michigan nonattainment areas under the 2015 ozone standard. EPA is also proposing to approve MAPCR Rules 336.1660 and 336.1662, which limit VOC emissions from consumer products and architectural and industrial maintenance coatings, as SIP strengthening measures for the areas. The EPA is not acting on R 336.1841(8), R 336.1842(10), and R 336.1844(9), and will address these rules in a separate action.

V. Incorporation by Reference

In this rulemaking, the EPA is proposing to include in a final EPA rule regulatory text that includes incorporation by reference. In accordance with requirements of 1 CFR 51.5, the EPA is proposing to incorporate by reference Michigan rules R 336.1601; except for R 336.1601(a);R 336.1602; R 336.1606; R 336.1607; R 336.1608; R 336.1609; R 336.1610; R 336.1610a; R 336.1611; R 336.1618; R 336.1620; R 336.1620a; R 336.1621; R 336.1621a; R 336.1622; R 336.1623; R 336.1624; R 336.1624a; R 336.1625; R 336.1627; R 336.1628; R 336.1629; R 336.1630; R 336.1631; R 336.1632, except for R 336.1632(9); R 336.1633; R 336.1634; R 336.1635; R 336.1636; R 336.1637; R 336.1638; R 336.1639; R 336.1640; R 336.1641; R 336.1642; R 336.1643; R 336.1644; R 336.1660; R 336.1661 (Rescinded); and R 336.1662; effective April 18, 2023, and R 336.1840; R 336.1841,except for R 336.1841(8); R 336.1842, except for R 336.1842(10); R 336.1843; R 336.1844, except for R 336.1844(9); R 336.1845; and R 336.1846; effective April 28, 2025, discussed in section III of this preamble. The EPA has made, and will continue to make, these documents generally available through www.regulations.gov and at the EPA Region 5 Office (please contact the person identified in the FOR FURTHER INFORMATION CONTACT section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, the EPA's role is to approve State choices, provided that they meet the criteria of the CAA. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen oxides, Ozone, Volatile organic compounds.

Dated: February 19, 2026.
Anne Vogel,
Regional Administrator, Region 5.

[FR Doc. 2026-03937 Filed 2-26-26; 8:45 am]

BILLING CODE 6560-50-P